DEPARTMENT OF VETERANS AFFAIRS

Veterans' Advisory Committee on Rehabilitation, Notice of Meeting

The Department of Veterans Affairs (VA) gives notice under the Federal Advisory Committee Act, that a meeting of the Veterans' Advisory Committee on Rehabilitation (VACOR) will be held on Tuesday, August 13-Wednesday, August 14, 2019, at 1800 G Street NW, Room 542, Washington, DC 20006. The meeting sessions will begin and end as follows:

Date: | Time:
August 13, 2019 | 8:30 a.m. to 4:00 p.m.
August 14, 2019 | 8:30 a.m. to 4:00 p.m.

The meeting sessions are open to the public.

The purpose of the Committee is to provide advice to the Secretary on the rehabilitation needs of Veterans with disabilities and on the administration of VA's rehabilitation programs.

On August 13, 2019, the Committee members will be provided with updated briefings on various VA programs designed to enhance the rehabilitative potential of disabled Veterans to include an update on Vocational Rehabilitation and Employment Modernization efforts. On August 14, 2019, Committee members will discuss and explore potential recommendations to be included in the Committee's next annual report.

Although no time will be allocated for receiving oral presentations from the public, members of the public may submit written statements for review by the Committee to Latrese Arnold, Designated Federal Officer, Veterans Benefits Administration (28), 810 Vermont Avenue NW, Washington, DC 20420, or via email at Latrese.Arnold@va.gov. In the communication, writers must identify themselves and state the organization, association or person(s) they represent. Because the meeting is being held in a government building, a photo I.D. must be presented at the Guard's Desk as part of the clearance process. Due to an increase in security protocols, and in order to prevent delays in clearance processing, you should allow an additional 30 minutes before the meeting begins. Any member of the public who wishes to attend the meeting should RSVP to Latrese Arnold at (202) 461-9773 no later than close of business, August 5, 2019, at the phone number or email address noted above.

Dated: June 28, 2019.
LaTonya L. Small,
Federal Advisory Committee Management Officer.

[FR Doc. 2019-14289 Filed 7-3-19; 8:45 am]

BILLING CODE P